DEPARTMENT OF COMMERCE

International Trade Administration

[A-549-848]

Truck and Bus Tires From Thailand: Final Affirmative Determination of Sales at Less Than Fair Value and Final Affirmative Determination of Critical Circumstances, in Part

AGENCY: Enforcement and Compliance, International Trade Administration, Department of Commerce.

SUMMARY: The U.S. Department of Commerce (Commerce) determines that certain truck and bus tires from Thailand are being, or are likely to be, sold in the United States at less than fair value (LTFV).

DATES: Applicable October 17, 2024.

FOR FURTHER INFORMATION CONTACT: Faris Montgomery or Jonathan Schueler, AD/CVD Operations, Office VIII, Enforcement and Compliance, International Trade Administration, U.S. Department of Commerce, 1401 Constitution Avenue NW, Washington, DC 20230; telephone: (202) 482-1537 or (202) 482-9175, respectively.

SUPPLEMENTARY INFORMATION:

Background

On May 20, 2024, Commerce published the Preliminary Determination in the Federal Register.¹ We invited interested parties to comment on the Preliminary Determination. Bridgestone Corporation (Bridgestone) and Prinx Chengshan Tire (Thailand) Co., Ltd. (Prinx) are the mandatory respondents in this investigation. On July 22, 2024, Commerce tolled certain deadlines in this administrative proceeding by seven days.² The deadline for the final determination is now October 9, 2024.

¹ See Truck and Bus Tires from Thailand: Preliminary Affirmative Determination of Sales at Less Than Fair Value, Preliminary Negative Determination of Critical Circumstances, and Postponement of Final Determination, 89 FR 43806 (May 20, 2024) (Preliminary Determination), and accompanying Preliminary Decision Memorandum (PDM).

² See Memorandum, “Tolling of Deadlines for Antidumping and Countervailing Duty Proceedings,” dated July 22, 2024.

A summary of the events that occurred since Commerce published the Preliminary Determination, as well as a full discussion of the issues raised by parties for this final determination, may be found in the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

³ See Memorandum, “Issues and Decision Memorandum for the Final Affirmative Determination in the Less-Than-Fair-Value Investigation of Truck and Bus Tires from Thailand,” dated concurrently with, and hereby adopted by, this notice (Issues and Decision Memorandum).

Scope of the Investigation

The products covered by this investigation are truck and bus tires from Thailand. For a full description of the scope of this investigation, see Appendix I.

Scope Comments

We received no comments from interested parties on the scope of the investigation as it appeared in the Preliminary Determination. Therefore, we made no changes to the scope of the investigation.

Verification

As provided in section 782(i) of the Tariff Act of 1930, as amended (the Act), in June and July 2024, we conducted verification of the sales information and cost information submitted by Bridgestone and Prinx for use in our final determination. We used standard verification procedures, including an examination of relevant sales and accounting records, and original source documents provided by Bridgestone and Prinx.

Analysis of Comments Received

The issues raised in comments that were submitted by parties in this investigation are addressed in the Issues and Decision Memorandum. A list of the issues addressed in the Issues and Decision Memorandum is attached to this notice at Appendix II.

Final Affirmative Determination of Critical Circumstances, in Part

Commerce preliminarily determined, in accordance with section 733(e)(1) of the Act and 19 CFR 351.206(c)(1), that critical circumstances did not exist with respect to imports of truck and bus tires exported by Bridgestone, Prinx, and all other companies.⁴

⁴ See Preliminary Determination PDM at 20.

For the final determination, pursuant to section 735(a)(3)(B) of the Act and 19 CFR 351.206, we continue to find that critical circumstances do not exist for Prinx and all other companies, but that critical circumstances do exist for Bridgestone. For a full description of the methodology and results of Commerce's critical circumstances analysis, see the Issues and Decision Memorandum.

Changes Since the Preliminary Determination

As explained in the Issues and Decision Memorandum, Commerce was unable to verify the accuracy of Bridgestone's reporting with respect to its sales data. As a consequence, we find that Bridgestone's reported sales data are unverified and, thus, cannot serve as a reliable basis for calculating an accurate margin for Bridgestone in this investigation. Furthermore, based on our analysis of the comments received and our findings at verification, we made changes to Prinx's dumping margin. For a discussion of these changes, see the Issues and Decision Memorandum.

Use of Adverse Facts Available

Because Bridgestone's submitted data could not be verified, we are unable to use its data to calculate an accurate dumping margin for the company. Therefore, for this final determination we find it appropriate to rely on facts available with an adverse inference (AFA) to assign Bridgestone an estimated weighted-average dumping margin, in accordance with sections 776(a) and (b) of the Act, and 19 CFR 351.308, because Bridgestone failed to cooperate by not acting to the best of its ability to comply with our requests for information. In applying AFA, we assigned Bridgestone the margin identified in the Petition, i.e., 48.39 percent.⁵

⁵ See Truck and Bus Tires from Thailand: Initiation of Less-Than-Fair-Value Investigation, 88 FR 77960 (November 14, 2023); see also Checklist, “Antidumping Duty Investigation Initiation Checklist: Truck and Bus Tires from Thailand, dated November 6, 2023, at 7; Petitioner's Letter, “Petition for the Imposition of Antidumping Duties on Truck and Bus Tires from Thailand,” dated October 17, 2023 (Petition), at Volume II; and Petitioner's Letter, “Petition Supplemental Questions Response,” dated October 24, 2023.

Additionally, due to findings at verification related to certain of Prinx's reported sales expenses, we find it appropriate to rely on AFA, in part, in the calculation of its dumping margin for the final determination. For further discussion, see the Issues and Decision Memorandum.

All-Others Rate

Section 735(c)(5)(A) of the Act provides that the estimated weighted-average dumping margin for all other producers and exporters not individually examined shall be an amount equal to the weighted average of the estimated weighted-average dumping margins established for exporters and producers individually investigated, excluding any zero or de minimis margins, and margins determined entirely under section 776 of the Act.

For the final determination of this investigation, Prinx was the only individually examined exporter/producer for which Commerce calculated an individual estimated weighted-average dumping margin. Because Prinx's dumping margin is the only individually calculated dumping margin that is not zero, de minimis, or based entirely on facts otherwise available, the estimated weighted-average dumping margin calculated for Prinx is the margin assigned to all other producers and exporters, pursuant to section 735(c)(5)(A) of the Act.

Final Determination

The final estimated weighted-average dumping margins are as follows:

Producer or exporter | Estimated weighted- average dumping margin (percent)
Bridgestone Corporation | 48.39
Prinx Chengshan Tire (Thailand) Co., Ltd | 12.33
All Others | 12.33

Disclosure

Commerce intends to disclose the calculations performed in connection with this final determination to interested parties within five days of any public announcement or, if there is no public announcement, within five days of the publication of the notice in the Federal Register, in accordance with 19 CFR 351.224(b).

Suspension of Liquidation

Because the Preliminary Determination was negative with respect to Prinx, we did not instruct U.S. Customs and Border Protection (CBP) to suspend entries of subject merchandise, as described in Appendix I to this notice, from Prinx. In accordance with section 735(c)(1)(C) of the Act, we will now direct CBP to suspend liquidation of all imports of the subject merchandise from Prinx entered, or withdrawn from warehouse, for consumption on or after the date of publication of this notice in the Federal Register, and to require the posting of a cash deposit for such entries of merchandise.

With respect to Bridgestone, section 733(e)(2) of the Act provides that, given an affirmative determination of critical circumstances, any suspension of liquidation shall apply to unliquidated entries of subject merchandise entered, or withdrawn from warehouse, for consumption on or after the later of: (a) the date which is 90 days before the date on which the suspension of liquidation was first ordered; or (b) the date on which notice of initiation of the investigation was published. The Preliminary Determination was affirmative with respect to Bridgestone's sales at LTFV; however, Commerce preliminarily determined that critical circumstances did not exist for Bridgestone. Accordingly, Commerce ordered the suspension of liquidation for Bridgestone's entries of subject merchandise from Thailand on May 20, 2024, the date of publication of the Preliminary Determination in the Federal Register. Therefore, as a result of this final affirmative determination of critical circumstances for Bridgestone, pursuant to section 733(e)(2) of the Act, we will now instruct CBP to suspend liquidation of all entries of subject merchandise from Bridgestone which were entered, or withdrawn from warehouse, for consumption on or after February 20, 2024, which is 90 days prior to the publication of the Preliminary Determination.

Finally, with respect to all other companies, in accordance with section 735(c)(1)(B) of the Act, Commerce will instruct CBP to continue to suspend liquidation of all appropriate entries of subject merchandise from Thailand, as described in Appendix I to this notice, entered, or withdrawn from warehouse, for consumption on or after May 20, 2024, the date of publication of Preliminary Determination in the Federal Register. These suspension-of-liquidation instructions will remain in effect until further notice.

Pursuant to section 735(c)(1)(B)(ii) of the Act and 19 CFR 351.210(d), where appropriate, Commerce will instruct CBP to require a cash deposit equal to the estimated weighted-average dumping margin or the estimated all-others rate, as follows: (1) the cash deposit rate for the respondents listed above will be equal to the company-specific estimated weighted-average dumping margin determined in this final determination; (2) if the exporter is not a respondent identified above but the producer is, then the cash deposit rate will be equal to the company-specific estimated weighted-average dumping margin established for that producer of the subject merchandise; and (3) the cash deposit rate for all other producers and exporters will be equal to the all-others estimated weighted-average dumping margin.

U.S. International Trade Commission (ITC) Notification

In accordance with section 735(d) of the Act, we will notify the ITC of the final affirmative determination of sales at LTFV. Because Commerce's final determination is affirmative, in accordance with section 735(b)(2) of the Act, the ITC will make its final determination as to whether the domestic industry in the United States is materially injured, or threatened with material injury, by reason of imports or sales (or the likelihood of sales) for importation of truck and bus tires from Thailand, no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Administrative Protective Order (APO)

This notice will serve as a final reminder to the parties subject to an APO of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination is issued and published in accordance with sections 735(d) and 777(i)(1) of the Act, and 19 CFR 351.210(c).

Dated: October 9, 2024.
Scot Fullerton,
Acting Assistant Secretary for Enforcement and Compliance.

Appendix I

Scope of the Investigation

The scope of the investigation covers truck and bus tires. Truck and bus tires are new pneumatic tires, of rubber, with a truck or bus size designation. Truck and bus tires covered by the scope may be tube-type, tubeless, radial, or non-radial (also known as bias construction or bias-ply). Subject tires have, at the time of importation, the symbol “DOT” on the sidewall, certifying that the tire conforms to applicable motor vehicle safety standards. Subject tires may also have one of the following suffixes in their tire size designation, which also appear on the sidewall of the tire:

TR—Identifies tires for service on trucks or buses to differentiate them from similarly sized passenger car and light truck tires; and

HC—Identifies a 17.5 inch rim diameter code for use on low platform trailers.

All tires with a “TR” or “HC” suffix in their size designations are covered by the scope regardless of their intended use.

In addition, all tires that lack one of the above suffix markings are included in the scope, as well as all tires that include any other prefix or suffix in their sidewall markings, are included in the scope, regardless of their intended use, as long as the tire is of a size that fits trucks or busses. Sizes that fit trucks and busses include, but are not limited to, the numerical size designations listed in the “Truck-Bus” section of the Tire and Rim Association Year Book, as updated annually. The scope includes all tires that are of a size that fits trucks or busses, unless the tire falls within one of the specific exclusions set out below.

Truck and bus tires, whether or not mounted on wheels or rims, are included in the scope. However, if a subject tire is imported mounted on a wheel or rim, only the tire is covered by the scope. Subject merchandise includes truck and bus tires produced in the subject country whether mounted on wheels or rims in the subject country or in a third country. Truck and bus tires are covered whether or not they are accompanied by other parts, e.g., a wheel, rim, axle parts, bolts, nuts, etc. Truck and bus tires that enter attached to a vehicle are not covered by the scope.

Specifically excluded from the scope are the following types of tires: (1) pneumatic tires, of rubber, that are not new, including recycled and retreaded tires; (2) non-pneumatic tires, such as solid rubber tires; and (3) tires that exhibit each of the following physical characteristics: (a) the designation “MH” is molded into the tire's sidewall as part of the size designation; (b) the tire incorporates a warning, prominently molded on the sidewall, that the tire is for “Mobile Home Use Only;” and (c) the tire is of bias construction (also known as non-radial construction) as evidenced by the fact that the construction code included in the size designation molded into the tire's sidewall is not the letter “R.”

The subject merchandise is currently classifiable under Harmonized Tariff Schedule of the United States (HTSUS) subheadings: 4011.20.1015 and 4011.20.5020. Tires meeting the scope description may also enter under the following HTSUS subheadings: 4011.90.1010, 4011.90.1050, 4011.90.2010, 4011.90.2050, 4011.90.8010, 4011.90.8050, 8708.70.4530, 8708.70.4546, 8708.70.4548, 8708.70.4560, 8708.70.6030, 8708.70.6045, 8708.70.6060, and 8716.90.5059.

While HTSUS subheadings are provided for convenience and for customs purposes, the written description of the subject merchandise is dispositive.

Appendix II

List of Topics Discussed in the Issues and Decision Memorandum

I. Summary

II. Background

III. Final Affirmative Determination of Critical Circumstances, in Part

IV. Changes from the Preliminary Determination

V. Application of Facts Available and Use of Adverse Inferences

VI. Discussion of the Issues

Comment 1: Treatment of Certain of Bridgestone's Sales Information and Sales Expenses Based on Commerce's Findings at Verification and Whether Commerce Should Apply Adverse Facts Available (AFA) to Bridgestone

Comment 2: Whether Commerce Should Adjust Bridgestone's Normal Value (NV) to Include Home Market (HM) Rebates

Comment 3: Whether Commerce Should Apply Total AFA to Prinx

Comment 4: Whether Commerce Should Apply Partial AFA to Certain of Prinx's Sales Expenses

Comment 5: Whether Commerce Should Use Bridgestone's Constructed Export Price (CEP) Profit to Calculate Prinx's CEP Profit Rate

Comment 6: Whether Commerce Should Rely on Bridgestone's Reported Data for Use in Prinx's Constructed Value (CV) Profit and Indirect Selling Expenses

Comment 7: Whether Prinx's U.S. Warranty Expenses, WARRU, Should Be Applied to Prinx's CEP Sales

Comment 8: Whether Commerce Should Use the Cohen's d Test

VII. Recommendation

[FR Doc. 2024-23917 Filed 10-16-24; 8:45 am]

BILLING CODE 3510-DS-P